SECURITIES AND EXCHANGE COMMISSION

[Release No. 34-85946; File No. SR-NYSEArca-2019-04]

Self-Regulatory Organizations; NYSE Arca, Inc.; Order Instituting Proceedings To Determine Whether To Approve or Disapprove a Proposed Rule Change To Amend NYSE Arca Rule 5.2-E(j)(3) and To Adopt Generic Listing Standards for Investment Company Units Based on an Index or Portfolio of Municipal Securities

Correction

In notice document 2019-11446 beginning on page 25599 in the issue of Monday, June 3, 2019, make the following correction:

On page 25602, in the third column, in the second paragraph, in the last line “June 24, 2019” should read “July 8, 2019”.

[FR Doc. C1-2019-11446 Filed 6-11-19; 8:45 am]

BILLING CODE 1301-00-D